DEPARTMENT OF LABOR

Employment and Training Administration

[TA-W-62,515]

Drive Sol Global Steering, Inc.; Steering Division Formerly Known as Timken U.S. Corporation, Watertown, CT; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on February 5, 2008, applicable to workers of Drive Sol Global Steering, Inc., Steering Division, Watertown, Connecticut. The notice was published in the Federal Register on February 22, 2008 (73 FR 9835).

At the request of the State agency, the Department reviewed the certification for workers of the subject firm. The workers are engaged in the production of steering mechanical shafts.

The subject firm originally named Timken U.S. Corporation became known as Driver Sol Global Steering, Inc., Steering Division after Drive Sol Global Steering, Inc. purchased the assets of Timken U.S. Corporation in December 2006.

The State agency reports that some workers' wages at the subject firm are being reported under the Unemployment Insurance (UI) tax account for Timken U.S. Corporation.

Accordingly, the Department is amending this certification to properly reflect this matter.

The amended notice applicable to TA-W-62,515 is hereby issued as follows:

All workers of Drive Sol Global Steering, Inc., Steering Division, formerly known as Timken U.S. Corporation, Watertown, Connecticut, who became totally or partially separated from employment on or after November 29, 2006, through February 5, 2010, are eligible to apply for adjustment assistance under section 223 of the Trade Act of 1974, and are also eligible to apply for alternative trade adjustment assistance under section 246 of the Trade Act of 1974.

Signed at Washington, DC, this 10th day of March 2008.
Linda G. Poole,
Certifying Officer, Division of Trade Adjustment Assistance.

[FR Doc. E8-5228 Filed 3-14-08; 8:45 am]

BILLING CODE 4510-FN-P